DEPARTMENT OF THE TREASURY

Submission for OMB Review; Comment Request

February 18, 2000.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before March 29, 2000 to be assured of consideration.

Bureau of the Public Debt (PD)

OMB Number: 1535-0013.

Form Number: PD F 1048 and PD F 2243.

Type of Review: Extension.

Title: Application for Relief on Account of Loss, Theft or Destruction of U.S. Savings and Retirement Securities (1048); and Statement Concerning U.S. Securities.

Description: PD F 1048 and PD F 2243 used by owner(s) or others having knowledge to request substitute or payment of lost, stolen or destroyed securities.

Respondents: Individuals or households.

Estimated Number of Respondents: 80,000.

Estimated Burden Hours Per Respondent:

PD F 1048 | 25 minutes.
PD F 2243 | 5 minutes.

Frequency of Response: On occasion.

Estimated Total Reporting Burden Hours: 32,000 hours.

OMB Number: 1535-0035.

Form Number: PD F 4881.

Type of Review: Extension.

Title: Application for Payment of United States Savings Bonds/Notes or Related Checks in an Amount NOT Exceeding $1,000 by the Survivor of a Deceased Owner Whose Estate is NOT Being Administered.

Description: PD F 4881 is used by survivors of deceased bond owners to apply for proceeds from bonds, or related checks.

Respondents: Individuals or households.

Estimated Number of Respondents: 3,965.

Estimated Burden Hours Per Respondent: 10 minutes.

Frequency of Response: On occasion.

Estimated Total Reporting Burden Hours: 991 hours.

OMB Number: 1535-0036.

Form Number: PD F 2513.

Type of Review: Extension.

Title: Application by Voluntary Guardian of Implement Owner of United States Savings Bonds/Notes.

Description: PD F 2513 used by voluntary guardian of incompetent bond owner(s) to establish right to act on behalf of incompetent owner.

Respondents: Individuals or households.

Estimated Number of Respondents: 7,650.

Estimated Burden Hours Per Respondent: 20 minutes.

Frequency of Response: On occasion.

Estimated Total Reporting Burden Hours: 2,600 hours.

OMB Number: 1535-0064.

Form Number: PD F 1980 and PD F 2490.

Type of Review: Extension.

Title: Description of United States Savings Bonds Series HH/H (1980); and Description of United States Bonds/Notes (2490).

Description: PD F 1980 and PD F 2490 are used by owners of United States Savings Bonds/Notes to describe their holdings.

Respondents: Individuals or households.

Estimated Number of Respondents: 19,000.

Estimated Burden Hours Per Respondent:

PD F 1980 | 6 minutes
PD F 2490 | 6 minutes

Frequency of Response: On occasion.

Estimated Total Reporting Burden Hours: 1,900 hours.

Clearance Officer: Vicki S. Thorpe, (304) 480-6553, Bureau of the Public Debt, 200 Third Street, Parkersburg, West VA 26106-1328.

OMB Reviewer: Alexander T. Hunt (202) 395-7860, Office of Management and Budget, Room 10226, New Executive Office Building, Washington, DC 20503.

Lois K. Holland,
Departmental Reports, Management Officer.

[FR Doc. 00-4604 Filed 2-25-00; 8:45 am]

BILLING CODE 4810-40-U